DEPARTMENT OF TRANSPORTATION

Surface Transportation Board

[Docket No. FD 35493]

Texas Department of Transportation—Acquisition Exemption—Line of Union Pacific Railroad Company

Texas Department of Transportation (TxDOT), a Class III rail carrier, has filed a supplemental verified notice of exemption ¹ under 49 CFR 1150.41 to acquire from Union Pacific Railroad Company (UP) 1.28 miles of rail line on UP's Bonham Subdivision between mileposts 127.5 and 128.78, in Fannin County, TX.

¹ The notice was originally submitted on June 3, 2011, but was supplemented on June 8, 2011. Therefore, June 8, 2011 will be the official filing date and the basis for all due dates.

TxDOT states that it has reached an agreement with UP whereby TxDOT will acquire UP's right, title, and interest in certain personal and real property in Fannin County. TxDOT further states that it will also enter into an agreement with the Fannin Rural Rail Transportation District (FRRTD) that will permit FRRTD or its operator to conduct tourist passenger operations between mileposts 94.0 and 128.78.²

² TxDOT was authorized to acquire UP's interest in a connecting rail line between mileposts 94.0 and 127.5. See State of Texas, acting by and through the Texas Depart. of Transp.—Acq. Exemp.—Union Pacific RR, FD 34834 (STB served Feb. 24, 2006).

A related verified notice of exemption was concurrently filed in Docket No. FD 35494, Mid-Michigan Railroad, Inc., d/b/a Texas Northeastern Railroad—Trackage Rights Exemption—Texas Department of Transportation, whereby, following consummation of this transaction, TxDOT will grant trackage rights to Mid-Michigan Railroad, Inc., d/b/a Texas Northeastern Railroad to perform freight rail service over the line.

TxDOT certifies that its projected annual revenues as a result of this transaction will not exceed those that would qualify it as a Class III rail carrier and will not exceed $5 million.

The proposed transaction is scheduled to be consummated on or after July 8, 2011, the effective date of the exemption (30 days after the exemption was filed).

If the verified notice contains false or misleading information, the exemption is void ab initio. Petitions to revoke the exemption under 49 U.S.C. 10502(d) may be filed at any time. The filing of a petition to revoke will not automatically stay the effectiveness of the exemption. Stay petitions must be filed no later than July 1, 2011 (at least 7 days before the exemption becomes effective).

An original and 10 copies of all pleadings, referring to Docket No. FD 35493, must be filed with the Surface Transportation Board, 395 E Street, SW., Washington, DC 20423-0001. In addition, a copy of each pleading must be served on Richard H. Streeter, 5255 Partridge Lane, NW., Washington, DC 20016.

Board decisions and notices are available on our Web site at http://www.stb.dot.gov.

Decided: June 20, 2011.
By the Board, Rachel D. Campbell, Director, Office of Proceedings.
Andrea Pope-Matheson,
Clearance Clerk.

[FR Doc. 2011-15864 Filed 6-23-11; 8:45 am]

BILLING CODE 4915-01-P